DEPARTMENT OF HEALTH AND HUMAN SERVICES

National Institutes of Health

Center for Scientific Review; Amended Notice of Meeting

Notice is hereby given of a change in the meeting of the Social Sciences and Population Studies B Study Section, June 18, 2020, 09:00 a.m. to June 19, 2020, 05:00 p.m., National Institutes of Health, Rockledge II, 6701 Rockledge Drive, Bethesda, MD 20892, which was published in the Federal Register on May 15, 2020, 85 FR 29464.

This notice is being amended to change the meeting time from 9:00 a.m. to 5:00 p.m. to 10:00 a.m. to 5:00 p.m. The meeting is closed to the public.

Dated: June 9, 2020.
Miguelina Perez,
Program Analyst, Office of Federal Advisory Committee Policy.

[FR Doc. 2020-12820 Filed 6-12-20; 8:45 am]

BILLING CODE 4140-01-P